ENVIRONMENTAL PROTECTION AGENCY

[EPA-HQ-OPP-2010-0597; FRL-8840-4]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2009 to June 30, 2010 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How Can I Get Copies of this Document and Other Related Information?

EPA has established a docket for this action under docket identification (ID) number EPA-HQ-OPP-2010-0597. Publicly available docket materials are available either electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U. S. States and Territories

California

Environmental Protection Agency, Department of Pesticide Regulation

Specific exemption: EPA authorized the use of fenpyroximate in beehives to control varroa mites; October 2, 2009 to October 1, 2010. Contact: Stacey Groce.

EPA authorized the use of boscalid on Belgian endive to control Sclerotinia sclerotiorum; November 13, 2009 to February 15, 2010. Contact: Stacey Groce.

EPA authorized the use of pyraclostrobin on Belgian endive to control Sclerotinia sclerotiorum; November 13, 2009 to February 15, 2010. Contact: Stacey Groce.

EPA authorized the use of 1-naphthaleneacetic acid on avocado to suppress excessive branch growth (sprout inhibition); April 16, 2010 to April 16, 2011. Contact: Marcel Howard.

EPA authorized the use of propiconazole on peach and nectarine to control sour rot; May 4, 2010 to November 30, 2010. Contact: Andrea Conrath.

EPA authorized the use of avermectin on lima beans to control two-spotted spider mite; May 19, 2010 to August 31, 2010. Contact: Marcel Howard.

Colorado

Department of Agriculture

Specific exemption: EPA authorized the use of abamectin on dry bulb onions to control thrips; March 12, 2010 to September 30, 2010. Contact: Keri Grinstead.

EPA authorized the use of spirotetramat on dry bulb onions to control thrips; May 5, 2010 to September 30, 2010. Contact: Keri Grinstead.

Quarantine: EPA authorized the use of Environ LpH (containing the active ingredients ortho-benzyl para-chlorophenol, para-tertiatry-amylphenol, and ortho-phenylphenol in laboratories to control prions; April 15, 2010, to April 15, 2013. Contact: Princess Campbell.

Florida

Department of Agriculture and Consumer Services

Specific exemption: EPA authorized the use of novaluron on strawberries to control sap beetles; December 31, 2009 to December 31, 2010. Contact: Marcel Howard.

Quarantine: EPA authorized the use of metconazole on sugarcane to control orange rust (Puccinia kuehnii); October 1, 2009, to December 31, 2011. Contact: Libby Pemberton.

EPA authorized the use of pyraclostrobin on sugarcane to control orange rust (Puccinia kuehnii); October 1, 2009, to December 31, 2011. Contact: Libby Pemberton.

Idaho

Department of Agriculture

Crisis: On June 24, 2010, for the use of diflubenzuron on alfalfa to control grasshoppers and Mormon crickets. A specific exemption request has been submitted to the Agency and this program is expected to end on October 31, 2010. Contact: Andrea Conrath.

Specific exemption: EPA authorized the use of linuron on lentils to control mayweed chamomile or dog fennel (Anthemis cotula) and prickly lettuce (Lactuca serriola L.); December 30, 2009 to June 20, 2010. Contact: Andrea Conrath.

EPA authorized the use of spirotetramat on dry bulb onions to control thrips; May 5, 2010 to September 15, 2010. Contact: Keri Grinstead.

EPA authorized the use of hexythiazox on sweet corn to control mites; May 27, 2010 to August 20, 2010. Contact: Stacey Groce.

Illinois

Department of Agriculture

Specific exemption: EPA authorized the use of fenpyroximate in beehives to control varroa mites; October 2, 2009 to October 1, 2010. Contact: Stacey Groce.

EPA authorized the use of mandipropamid on basil to control downy mildew; May 28, 2010 to October 15, 2010. Contact: Marcel Howard.

EPA authorized the use of cyazofamid on basil to control downy mildew; June 15, 2010 to October 15, 2010. Contact: Marcel Howard.

Indiana

Office of Indiana State Chemist

Specific exemption: EPA authorized the use of fenpyroximate in beehives to control varroa mites; April 15, 2010 to October 1, 2010. Contact: Stacey Groce.

Iowa

Department of Agriculture and Land Stewardship

Specific exemption: EPA authorized the use of sulfentrazone on strawberry to control broadleaf weeds; June 25, 2010 to December 15, 2010. Contact: Andrea Conrath.

Kentucky

Department of Agriculture

Specific exemption: EPA authorized the use of fenpyroximate in beehives to control varroa mites; November 20, 2009 to October 1, 2010. Contact: Stacey Groce.

Louisiana

Department of Agriculture and Forestry

Specific exemption: EPA authorized the use of anthraquinone on field and sweet corn seed to repel crows and blackbird species; February 23, 2010 to February 23, 2011. Contact: Marcel Howard.

EPA authorized the use of anthraquinone on rice seed to repel blackbird species; April 1, 2010 to April 1, 2011. Contact: Marcel Howard.

Massachusetts

Department of Food and Agriculture

Specific exemption: EPA authorized the use of quinclorac on cranberries to control dodder; March 12, 2010 to July 31, 2010. Contact: Marcel Howard.

Michigan

Department of Agriculture

Crisis: On June 17, 2010, for the use of spinosad on wooded areas to control emerald ash borer. This program ended on July 1, 2010. Contact: Libby Pemberton.

Specific exemption: EPA authorized the use of anthraquinone on field and sweet corn seed to repel sand hill cranes; February 1, 2010 to January 21, 2011. Contact: Marcel Howard.

EPA authorized the use of kasugamycin on apples to control fire blight; April 22, 2010 to April 1, 2011. Contact: Keri Grinstead.

EPA authorized the use of spirotetramat on dry bulb onions to control thrips; May 5, 2010 to September 30, 2010. Contact: Keri Grinstead.

EPA authorized the use of abamectin on dry bulb onions to control thrips; June 14, 2010 to September 30, 2010. Contact: Keri Grinstead.

EPA authorized the use of sulfentrazone on strawberry to control broadleaf weeds; June 25, 2010 to December 15, 2010. Contact: Andrea Conrath.

Minnesota

Department of Agriculture

Specific exemption: EPA authorized the use of fenpyroximate in beehives to control varroa mites; February 18, 2010 to October 1, 2010. Contact: Stacey Groce.

EPA authorized the use of anthraquinone on field and sweet corn seed to repel sand hill cranes; February 26, 2010 to February 26, 2011. Contact: Marcel Howard.

Mississippi

Department of Agriculture and Commerce

Specific exemption: EPA authorized the use of anthraquinone on field and sweet corn seed to repel crows and blackbird species; March 12, 2010 to March 12, 2011. Contact: Marcel Howard.

Missouri

Department of Agriculture

Specific exemption: EPA authorized the use of fenpyroximate in beehives to control varroa mites; February 18, 2010 to October 1, 2010. Contact: Stacey Groce.

Nevada

Department of Agriculture

Specific exemption: EPA authorized the use of spirotetramat on dry bulb onions to control thrips; June 7, 2010 to September 15, 2010. Contact: Keri Grinstead.

New Hampshire

Department of Agriculture

Crisis: On March 11, 2010, for the use of sodium hypochlorite on surfaces and items to control Bacillus anthracis. This program ended on March 30, 2010. Contact: Princess Campbell.

New Jersey

Department of Environmental Protection

Specific exemption: EPA authorized the use of quinclorac on cranberries to control dodder; April 19, 2010 to December 15, 2010. Contact: Marcel Howard.

New Mexico

Department of Agriculture

Specific exemption: EPA authorized the use of spirotetramat on dry bulb onions to control thrips; May 5, 2010 to October 31, 2010. Contact: Keri Grinstead.

New York

Department of Environmental Conservation

Specific exemption: EPA authorized the use of abamectin on dry bulb onions to control thrips; March 12, 2010 to September 15, 2010. Contact: Keri Grinstead.

EPA authorized the use of spirotetramat on dry bulb onions to control thrips; May 5, 2010 to September 15, 2010. Contact: Keri Grinstead.

North Dakota

Department of Agriculture

Specific exemption: EPA authorized the use of anthraquinone on field and sweet corn seed to repel ring-necked pheasants; April 7, 2010 to April 7, 2011. Contact: Marcel Howard.

EPA authorized the use of sulfentrazone on flax to control kochia; May 7, 2010 to June 30, 2010. Contact: Andrea Conrath.

Ohio

Department of Agriculture

Specific exemption: EPA authorized the use of spirotetramat on dry bulb onions to control thrips; May 5, 2010 to September 15, 2010. Contact: Keri Grinstead.

EPA authorized the use of sulfentrazone on strawberry to control broadleaf weeds; June 20, 2010 to December 15, 2010. Contact: Andrea Conrath.

Oklahoma

Department of Agriculture

Specific exemption: EPA authorized the use of nicosulfuron on Bermudagrass and hayfields to control sandbur species; April 1, 2010 to June 30, 2010. Contact: Stacey Groce.

Oregon

Department of Agriculture

Specific exemption: EPA authorized the use of fenpyroximate in beehives to control varroa mites; October 8, 2009 to October 1, 2010. Contact: Stacey Groce.

EPA authorized the use of fenoxaprop-p-ethyl on grasses grown for seed to control annual grassy weeds; February 12, 2010 to September 20, 2010. Contact: Andrea Conrath.

EPA authorized the use of sulfentrazone on strawberry to control broadleaf weeds; March 24, 2010 to February 28, 2010. Contact: Andrea Conrath.

EPA authorized the use of fipronil on rutabaga and turnip to control the cabbage maggot; April 15, 2010 to September 30, 2010. Contact: Andrea Conrath.

EPA authorized the use of bifenthrin on orchardgrass to control the orchardgrass billbug; April 15, 2010 to November 15, 2010. Contact: Andrea Conrath.

EPA authorized the use of spirotetramat on dry bulb onions to control thrips; May 5, 2010 to September 15, 2010. Contact: Keri Grinstead.

South Dakota

Department of Agriculture

Crisis: On June 14, 2010, for the use of diflubenzuron on alfalfa to control grasshoppers and Mormon crickets. A specific exemption request has been submitted to the Agency and this program is expected to end on October 31, 2010. Contact: Andrea Conrath.

Specific exemption: EPA authorized the use of anthraquinone on field and sweet corn seed to repel ring-necked pheasants; April 7, 2010 to April 7, 2011. Contact: Marcel Howard.

EPA authorized the use of anthraquinone on sunflower seed to repel ring-necked pheasants; April 15, 2010 to April 15, 2011. Contact: Marcel Howard.

Texas

Department of Agriculture

Specific exemption: EPA authorized the use of anthraquinone on field and sweet corn seed to repel sand hill cranes; March 8, 2010 to March 8, 2011. Contact: Marcel Howard.

EPA authorized the use of nicosulfuron on Bermudagrass and hayfields to control sandbur species; April 1, 2010 to June 30, 2010. Contact: Stacey Groce.

EPA authorized the use of dinotefuran on rice to control rice stink bug (Oebalus pugnax); May 14, 2010 to October 30, 2010. Contact: Libby Pemberton.

Quarantine: EPA authorized the use of fipronil in an expansion of the registered use around outside structures up to 10 feet up and out to control a newly-introduced strain or species of Caribbean crazy ant; October 21, 2009, to October 21, 2012. Contact: Andrea Conrath.

EPA authorized the use of metconazole on sugarcane to control orange rust (Puccinia kuehnii); June 14, 2010, to June 14, 2013. Contact: Libby Pemberton.

EPA authorized the use of pyraclostrobin on sugarcane to control orange rust (Puccinia kuehnii); June 14, 2010, to June 14, 2013. Contact: Libby Pemberton.

Utah

Department of Agriculture

Specific exemption: EPA authorized the use of spirotetramat on dry bulb onions to control thrips; May 5, 2010 to September 1, 2010. Contact: Keri Grinstead.

Vermont

Department of Agriculture

Crisis: On April 26, 2010, for the use of anthraquinone on field and sweet corn seed to repel crow and blackbird species. A specific exemption request has been submitted to the Agency and this program is expected to end on December 31, 2010. Contact: Marcel Howard.

Washington

Department of Agriculture

Specific exemption: EPA authorized the use of linuron on lentils to control mayweed chamomile or dog fennel (Anthemis cotula) and prickly lettuce (Lactuca serriola L.); December 30, 2009 to June 20, 2010. Contact: Andrea Conrath.

EPA authorized the use of sulfentrazone on strawberry to control broadleaf weeds; March 24, 2010 to February 28, 2011. Contact: Andrea Conrath.

EPA authorized the use of spirotetramat on dry bulb onions to control thrips; May 5, 2010 to September 15, 2010. Contact: Keri Grinstead.

EPA authorized the use of abamectin on dry bulb onions to control thrips; June 14, 2010 to September 15, 2010. Contact: Keri Grinstead.

Wisconsin

Department of Agriculture, Trade, and Consumer Protection

Crisis: On May 21, 2010, for the use of zoxamide on ginseng to control phytophthora blight. This program ended on June 5, 2010. Contact: Stacey Groce.

Specific exemption: EPA authorized the use of anthraquinone on field and sweet corn seed to repel sand hill cranes; February 26, 2010 to February 26, 2011. Contact: Marcel Howard.

EPA authorized the use of fenpyroximate in beehives to control varroa mites; March 9, 2010 to October 1, 2010. Contact: Stacey Groce.

EPA authorized the use of abamectin on dry bulb onions to control thrips; March 12, 2010 to September 15, 2010. Contact: Keri Grinstead.

EPA authorized the use of spirotetramat on dry bulb onions to control thrips; May 5, 2010 to September 15, 2010. Contact: Keri Grinstead.

EPA authorized the use of sulfentrazone on strawberry to control broadleaf weeds; June 20, 2010 to December 15, 2010. Contact: Andrea Conrath.

Wyoming

Department of Agriculture

Crisis: On May 28, 2010, for the use of diflubenzuron on alfalfa to control grasshoppers and Mormon crickets. A specific exemption request has been submitted to the Agency and this program is expected to end on October 31, 2010. Contact: Andrea Conrath.

B. Federal Departments and Agencies

Agriculture Department

Animal and Plant Health Inspection Service (APHIS)

Crisis: On May 4, 2010, for the use of methyl bromide on imported avocados, bananas, opuntia, plantains, bulb vegetables, edible cacti, Brassica leafy vegetables, cucurbit vegetables, leafy vegetables, leaves of root and tuber vegetables, root and tuber vegetables, edible podded legume vegetables, figs, fresh herbs and spices, ivy gourd, Kaffir lime leaves, kiwi fruit, longan, lychee fruit, fresh and dried mint, okra, pomegranate, pointed gourd, rambutan, seeds in the family Malvacceae, small fruits and berries, and stone fruit to control various plant pests not currently established in the United States. APHIS has submitted a quarantine exemption to the Agency and this program is expected to end on May 4, 2011. Contact: Libby Pemberton.

On June 5, 2010, for the use of diazinon on containment areas and equipment to control exotic fruit flies. A quarantine exemption request has been submitted to the Agency and this program is expected to end on June 15, 2011. Contact: Stacey Groce.

Quarantine: EPA authorized the use of ethylene oxide to sterilize the interior surfaces of enclosed animal isolator units; March 11, 2010, to March 11, 2013. Contact: Princess Campbell.

List of Subjects

Environmental protection, Pesticides and pests.

Dated: August 10, 2010.
Lois Rossi,
Director, Registration Division, Office of Pesticide Programs.

[FR Doc. 2010-20445 Filed 8-17-10; 8:45 am]

BILLING CODE 6560-50-S